DEPARTMENT OF THE TREASURY

Domestic Finance

Notice of Open Meeting of the Advisory Committee, U.S. Community Adjustment and Investment Program

The Department of the Treasury, pursuant to the North American Free Trade Agreement (“NAFTA”) Implementation Act (Pub. L. 103-182) (the “Act”), established an advisory committee (the “Advisory Committee”) for the community adjustment and investment program (the “Program”) authorized by the Act. The Program provides financing to create or preserve jobs in communities adversely impacted by NAFTA. The charter of the Advisory Committee has been filed inaccordance with the Federal Advisory Committee Act of October 6, 1972 (Pub. L. 92-463), with the approval of the Secretary of the Treasury.

The Advisory Committee consists of eight members of the public, appointed by the President, who collectively represent: (1) Community groups whose constituencies include low-income families; (2) scientific, professional, business, nonprofit, or public interest organizations or associations, which are neither affiliated with, nor under the direction of, a government; and (3) for-profit business interests.

The objectives of the Advisory Committee are to: (1) Provide informed advice to the President regarding the implementation of the Program; and (2) review on a regular basis, the operation of the Program, and provide the President with the conclusions of its review. Pursuant to Executive Order No. 12916, dated May 13, 1994, the President established an interagency Finance Committee to implement the Program and to receive, on behalf of the President, advice of the Advisory Committee. The Finance Committee is chaired by the Secretary of the Treasury or his designated representative.

A meeting of the Advisory Committee, which will be open to the public, will be held in Washington, D.C. at the Marriott Hotel at Metro Center, 775 12th Street, NW., Washington, D.C. 20005 (Tel. 202-737-2200) from 9 a.m. to 3 p.m. on Monday, December 11, 2000. The exact location of the meeting room will be posted in the hotel lobby on the day of the meeting. The meeting room will accommodate approximately 50 persons and seating is available on a first-come, first-serve basis, unless space has been reserved in advance. Due to limited seating, prospective attendees are encouraged to contact the person listed below prior to December 5, 2000.

The purpose of the meeting is to review the operations of the Program, and to provide the Finance Committee with advice regarding the conclusions of its review and other implementation issues. Specifically, the meeting would review the recent status of, and anticipated activities of, the three Program components, namely, the federal agency program, the direct loan program, and the grant program.

If you would like to have the Advisory Committee consider a written statement, material must be submitted to the U.S. Community Adjustment and Investment Program, Advisory Committee, Department of the Treasury, 1500 Pennsylvania Avenue, NW., Room 5017, Washington, D.C. 20220 no later than December 5, 2000. If you have any questions, please call Jean Whaley at (202) 622-0741 (Please note that this telephone number is not toll-free.)

Harry M. Haigood,
Deputy Assistant Secretary, Government Financial Policy.

[FR Doc. 00-29962 Filed 11-22-00; 8:45 am]

BILLING CODE 4810-35-P